SECURITIES AND EXCHANGE COMMISSION

[Release No. IC-26110]

Notice of Applications for Deregistration Under Section 8(f) of the Investment Company Act of 1940

July 25, 2003.

The following is a notice of applications for deregistration under section 8(f) of the Investment Company Act of 1940 for the month of July 2003. A copy of each application may be obtained for a fee at the SEC's Public Reference Branch, 450 Fifth St., NW., Washington, DC 20549-0102 (tel. 202-942-8090). An order granting each application will be issued unless the SEC orders a hearing. Interested persons may request a hearing on any application by writing to the SEC's Secretary at the address below and serving the relevant applicant with a copy of the request, personally or by mail. Hearing requests should be received by the SEC by 5:30 p.m. on August 19, 2003, and should be accompanied by proof of service on the applicant, in the form of an affidavit or, for lawyers, a certificate of service. Hearing requests should state the nature of the writer's interest, the reason for the request, and the issues contested. Persons who wish to be notified of a hearing may request notification by writing to the Secretary, SEC, 450 Fifth Street, NW., Washington, DC 20549-0609. For Further Information Contact: Diane L. Titus at (202) 942-0564, SEC, Division of Investment Management, Office of Investment Company Regulation, 450 Fifth Street, NW., Washington, DC 20549-0506.

Nuveen Municipal Money Market Fund, Inc. [File No. 811-3531], Nuveen Taxable Funds, Inc. [File No. 811-3770], Nuveen Money Market Trust [File No. 811-9267]

Summary: Each applicant seeks an order declaring that it has ceased to be an investment company. By August 24, 2001, each applicant had made a liquidating distribution to its shareholders, based on net asset value. Expenses of approximately $10,686 and $42,744 were incurred by Nuveen Municipal Money Market Fund, Inc. and Nuveen Money Market Trust, respectively, in connection with the liquidations and were paid by Nuveen Investments, principal underwriter to each applicant. Nuveen Taxable Funds, Inc. incurred no expenses in connection with its liquidation.

Filing Dates: The applications were filed on April 25, 2003, and amended on July 7, 2003.

Applicants' Address: 333 West Wacker Dr., Chicago, IL 60606.

The Wachovia Funds [File No. 811-6504]

Summary: Applicant seeks an order declaring that it has ceased to be an investment company. On June 7, 2002, and June 14, 2002, fifteen of applicant's eighteen series transferred their assets to corresponding series of Evergreen Equity Trust, Evergreen Select Equity Trust, Evergreen International Trust, Evergreen Select Fixed Income Trust, and Evergreen Select Money Market Trust, based on net asset value. Between June 14, 2002, and June 16, 2002, applicant's remaining three series made a liquidating distribution to their shareholders, based on net asset value. Expenses of $275,785 incurred in connection with the reorganization and liquidation of applicant were paid by Evergreen Investment Management Company, LLC, applicant's investment adviser.

Filing Dates: The application was filed on November 20, 2002, and amended on July 7, 2003.

Applicant's Address: Federated Investors Tower, 1001 Liberty Ave., Pittsburgh, PA 15222-3779.

The Wachovia Municipal Funds [File No. 811-6201]

Summary: Applicant seeks an order declaring that it has ceased to be an investment company. On June 7, 2002, applicant transferred its assets to corresponding series of Evergreen Municipal Trust, based on net asset value. Expenses of $275,785 incurred in connection with the reorganization and liquidation of applicant were paid by Evergreen Investment Management Company, LLC, applicant's investment adviser.

Filing Dates: The application was filed on November 20, 2002, and amended on July 7, 2003.

Applicant's Address: Federated Investors Tower, 1001 Liberty Ave., Pittsburgh, PA 15222-3779.

Seligman Tax-Aware Fund, Inc. [File No. 811-10297]

Summary: Applicant seeks an order declaring that it has ceased to be an investment company. On April 24, 2003, applicant transferred its assets to Seligman Growth Fund, Inc., based on net asset value. Expenses of $98,500 incurred in connection with the reorganization were paid by J. & W. Seligman & Co. Incorporated, applicant's investment adviser.

Filing Date: The application was filed on July 16, 2003.

Applicant's Address: 100 Park Ave., New York, NY 10017.

The Simms Funds [File No. 811-8871]

Summary: Applicant seeks an order declaring that it has ceased to be an investment company. On February 28, 2003, applicant made a liquidating distribution to its shareholders, based on net asset value. Expenses of $24,956 incurred in connection with the liquidation were paid by Simms Capital Management, Inc., applicant's investment adviser.

Filing Date: The application was filed on July 9, 2003.

Applicant's Address: 55 Railroad Ave., Greenwich, CT 06830.

Integrity Small-Cap Fund of Funds, Inc. [File No. 811-9023]

Summary: Applicant seeks an order declaring that it has ceased to be an investment company. On June 25, 2003, applicant made a liquidating distribution to its shareholders, based on net asset value. Applicant incurred no expenses in connection with the liquidation.

Filing Date: The application was filed on July 21, 2003.

Applicant's Address: 1 Main St. N., Minot, ND 58703.

Market Street Fund [File No. 811-4350]

Summary: Applicant seeks an order declaring that it has ceased to be an investment company. On April 28, 2003, pursuant to an agreement approved by the applicant's shareholders, applicant distributed all of its assets to its shareholders based on net asset value. Expenses of approximately $288,308 were incurred in connection with the merger and were paid by Gartmore Mutual Fund Capital Trust, the investment adviser of the applicant.

Filing Date: The application was filed on May 20, 2003.

Applicant's Address: 1000 Chesterbrook Boulevard, Berwyn, Pennsylvania 19312-1181.

For the Commission, by the Division of Investment Management, pursuant to delegated authority.
J. Lynn Taylor,
Assistant Secretary.

[FR Doc. 03-19472 Filed 7-30-03; 8:45 am]

BILLING CODE 8010-01-P